ENVIRONMENTAL PROTECTION AGENCY

[OW-2003-0019, FRL-7883-8]

Agency Information Collection Activities: Proposed Collection; Comment Request; Clean Watersheds Needs Survey (CWNS), EPA ICR Number 0318.10, OMB Control Number 2040-0050

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on July 31, 2005. Before submitting the ICR to OMB for review and approval, EPA is soliciting comments on specific aspects of the proposed information collection as described below.

DATES: Comments must be submitted on or before May 13, 2005.

ADDRESSES: Submit your comments, referencing docket ID number OW-2003-0019, to EPA online using EDOCKET (our preferred method), by e-mail to ow-docket@epa.gov or by mail to: EPA Docket Center, Environmental Protection Agency, Office of Water, Mail Code 4101T, 1200 Pennsylvania Ave., NW., Washington, DC 20460.

FOR FURTHER INFORMATION CONTACT: Lena Ferris, Environmental Protection Agency, 1200 Pennsylvania Ave., NW., Mail Code 4201M, Washington, DC 20460; telephone number: 202-564-8831; fax number: 202-501-2399; e-mail address: ferris.lena@epa.gov.

SUPPLEMENTARY INFORMATION: EPA has established a public docket for this ICR under Docket ID number OW-2003-0019, which is available for public viewing at the Office of Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Water Docket is (202) 566-0217. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are State governments.

Title: Clean Watersheds Needs Survey (CWNS).

Abstract: The Clean Watersheds Needs Survey (CWNS) is required by Sections 205(a) and 516(b)(1) of the Clean Water Act (http://www.epa.gov/owm/mtb/cwns/index.htm). It is a periodic inventory of existing and proposed publicly owned wastewater treatment works (POTWs) and other water pollution control facilities in the United States, as well as an estimate of how many POTWs need to be built. The CWNS is a voluntary, joint effort of EPA and the States. The Survey records cost and technical data associated with POTWs and other water pollution control facilities, existing and proposed, in the United States (for data elements, see http://oaspub.epa.gov/edr/edr_proc_qry.navigate?P_LIST_OPTION_CD=CSDIS&P_REG_AUTH_IDENTIFIER=1&P_DATA_IDENTIFIER=89802&P_VERSION=1). The State respondents who provide this information to EPA are State agencies responsible for environmental pollution control. No confidential information is used, nor is sensitive information protected from release under the Public Information Act. EPA achieves national consistency in the final results through the application of uniform guidelines and validation techniques.

During the period of this ICR, EPA will not be requiring or asking States to update CWNS information. EPA is planning to keep the CWNS database open for States that voluntarily choose to submit updated information, for their own purposes, between the 2004 and 2008 CWNS data entry periods. EPA will not be requiring or asking States to submit updated data until the 2008 CWNS data entry period, which will be covered under a subsequent ICR.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: As this ICR is intended to allow States to voluntarily update CWNS information for their own purposes, EPA will not be imposing any burden under this ICR. Should States choose to update CWNS facilities during this period, the average burden per respondent per facility updated is 1.55 hours. In previous between survey periods, five to ten States have selected to update CWNS facility information. Assuming five to ten states choose to update facilities in this between survey period, with an average of 600 facilities per state and an average of 50% of facilities needing updates every 4 years, the total overall voluntary burden to the five to ten States would range between 2,325 and 4,650 hours. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 4, 2005.
James A. Hanlon,
Director, Office of Wastewater Management.

[FR Doc. 05-4959 Filed 3-11-05; 8:45 am]

BILLING CODE 6560-50-P